DEPARTMENT OF EDUCATION

Applications for New Awards; Indian Education Discretionary Grants Programs—Professional Development Grants Program

AGENCY: Office of Elementary and Secondary Education, Department of Education.

ACTION: Notice.

SUMMARY: The Department of Education (Department) is issuing a notice inviting applications for new awards for fiscal year (FY) 2021 for Indian Education Discretionary Grants Programs—Professional Development Grants Program, Assistance Listing Number 84.299B. This notice relates to the approved information collection under OMB control number 1810-0580.

DATES:

Applications Available: March 4, 2021.

Deadline for Notice of Intent to Apply: March 19, 2021.

Date of Pre-Application Meeting: Friday, February 26, 2021, and Thursday, March 4, 2021.

Deadline for Transmittal of Applications: May 3, 2021.

Deadline for Intergovernmental Review: July 2, 2021.

ADDRESSES: For the addresses for obtaining and submitting an application, please refer to our Common Instructions for Applicants to Department of Education Discretionary Grant Programs, published in the Federal Register on February 13, 2019 (84 FR 3768) and available at www.govinfo.gov/content/pkg/FR-2019-02-3/pdf/2019-02206.pdf.

FOR FURTHER INFORMATION CONTACT: Angela Hernandez, U.S. Department of Education, 400 Maryland Avenue SW, Room 3W113, Washington, DC 20202-6335. Telephone: (202) 205-1909. Email: angela.hernandez@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Indian Education Professional Development Grants program that are relevant to this competition are to increase the number of qualified Indian individuals in professions that serve Indians, and to provide training to qualified Indian individuals to become teachers and administrators.

Priorities: This competition includes two absolute priorities and two competitive preference priorities.

In accordance with 34 CFR 75.105(b)(2)(ii), these priorities are from the regulations in 34 CFR part 263, as revised in the notice of final regulations for this program published in the Federal Register on July 10, 2020 (85 FR 41372). Absolute Priorities 1 and 2 are from 34 CFR 263.6(b)(1) and (2). Competitive Preference Priorities 1 and 2 are from 34 CFR 263.6(a)(1) and (2).

Absolute Priorities: For FY 2021 and any subsequent year in which we make awards from the list of unfunded applications from this competition, these priorities are absolute priorities. Under 34 CFR 75.105(c)(3), we consider only applications that meet one or both of these priorities.

Note: The Department may create two funding slates—one for applicants that meet Absolute Priority 1 and one for applicants that meet Absolute Priority 2. As a result, the Department may fund applications out of the overall rank order, provided applications of sufficient quality are submitted, but the Department is not bound to do so. The Department anticipates awarding approximately half of available funds to applicants that meet Absolute Priority 1 and approximately half to applicants that meet Absolute Priority 2, provided applications of sufficient quality are submitted, but the Department is not bound by these estimates. Applicants must clearly identify the specific absolute priority or priorities the proposed project addresses in the project abstract; an applicant that wishes to apply under both priorities should submit two separate applications.

These priorities are:

Absolute Priority 1: Pre-Service Training for Teachers.

Projects that—

(a) Provide support and training to Indian individuals to complete a pre-service education program before the end of the award period that enables the individuals to meet the requirements for full State certification or licensure as a teacher through—

(1) Training that leads to a degree in education;

(2) For States allowing a degree in a specific subject area, training that leads to a degree in the subject area;

(3) Training in a current or new specialized teaching assignment that requires a degree and in which a documented teacher shortage exists; or

(4) Training in the field of Native American language instruction;

(b) Provide induction services, during the award period, to participants after graduation, certification, or licensure, for two years, while participants are completing their work-related payback in schools in local educational agencies (LEAs) that serve a high proportion of Indian students; and

(c) Include goals for the—

(1) Number of participants to be recruited each year;

(2) Number of participants to continue in the project each year;

(3) Number of participants to graduate each year; and

(4) Number of participants to find qualifying employment within 12 months of completion.

Absolute Priority 2: Pre-service Administrator Training.

Projects that—

(a) Provide support and training to Indian individuals to complete a graduate degree in education administration that is provided before the end of the award period and that allows participants to meet the requirements for State certification or licensure as an education administrator;

(b) Provide induction services, during the award period, to participants after graduation, certification, or licensure, for two years, while administrators are completing their work-related payback as administrators in LEAs that serve a high proportion of Indian students; and

(c) Include goals for the—

(1) Number of participants to be recruited each year;

(2) Number of participants to continue in the project each year;

(3) Number of participants to graduate each year; and

(4) Number of participants to find qualifying employment within twelve months of completion.

Competitive Preference Priorities: For FY 2021 and any subsequent year in which we make awards from the list of unfunded applications from this competition, these priorities are competitive preference priorities. Under 34 CFR 75.105(c)(2)(i) we award an additional five points to an application that meets Competitive Preference Priority 1 or an additional three points to an application that meets Competitive Preference Priority 2. Applicants are eligible for points under either Competitive Preference Priority 1 or 2, not both; thus, the maximum number of points is 5.

These priorities are:

Competitive Preference Priority 1: Tribal Applicants (Zero or five points).

An application submitted by an Indian Tribe, Indian organization, or Tribal college or university (TCU) that is eligible to participate in the Professional Development program. A consortium application of eligible entities that meets the requirements of 34 CFR 75.127 through 75.129 and includes an Indian Tribe, Indian organization, or TCU will be considered eligible to receive preference under this priority only if the lead applicant for the consortium is the Indian Tribe, Indian organization, or TCU. In order to be considered a consortium application, the application must include the consortium agreement, signed by all parties.

Competitive Preference Priority 2: Consortium Applicants, Non-Tribal Lead (Zero or three points).

A consortium application of eligible entities that—

(a) Meets the requirements of 34 CFR 75.127 through 75.129 and includes an Indian Tribe, Indian organization, or TCU; and

(b) Is not eligible to receive a preference under Competitive Preference Priority 1.

Application Requirements: For FY 2021 and any subsequent year in which we make awards from the list of unfunded applications from this competition, applicants must meet the following application requirements from 34 CFR 263.5.

Each applicant must:

(a) Describe how it will—

(1) Recruit qualified Indian individuals, such as students who may not be of traditional college age, to become teachers, principals, or school leaders;

(2) Use funds made available under the grant to support the recruitment, preparation, and professional development of Indian teachers or principals in LEAs that serve a high proportion of Indian students; and

(3) Assist participants in meeting the payback requirements under § 263.9(b);

(b) Submit one or more letters of support from LEAs that serve a high proportion of Indian students. Each letter must include—

(1) A statement that the LEA agrees to consider program graduates for employment;

(2) Evidence that the LEA meets the definition of “LEA that serves a high proportion of Indian students”; and

(3) The signature of an authorized representative of the LEA;

(c) If applying as an Indian organization, demonstrate that the entity meets the definition of “Indian organization”;

(d) If it is an affected LEA that is subject to the requirements of section 8538 of the Elementary and Secondary Education Act of 1965, as amended (ESEA), consult with appropriate officials from Tribe(s) or Tribal organizations approved by the Tribes located in the area served by the LEA prior to its submission of an application, as required under ESEA section 8538; and

(e) Comply with any other requirements in the application package.

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this section, an Indian is a member of any federally recognized Indian Tribe.

Definitions: The following definitions are from the program regulations at 34 CFR 263.3.

BIE-funded school means a Bureau of Indian Education school, a contract or grant school, or a school for which assistance is provided under the Tribally Controlled Schools Act of 1988.

Dependent allowance means costs for the care of minor children under the age of 18 who reside with the training participant and for whom the participant has responsibility. The term does not include financial obligations for payment of child support required of the participant.

Full course load means the number of credit hours that the institution requires of a full-time student.

Full-time student means a student who—

(1) Is a candidate for a baccalaureate degree, graduate degree, or Native American language certificate, as appropriate for the project;

(2) Carries a full course load; and

(3) Is not employed for more than 20 hours a week.

Graduate degree means a post-baccalaureate degree awarded by an institution of higher education.

Indian means an individual who is—

(1) A member of an Indian Tribe or band, as membership is defined by the Indian Tribe or band, including any Tribe or band terminated since 1940, and any Tribe or band recognized by the State in which the Tribe or band resides;

(2) A descendant of a parent or grandparent who meets the requirements of paragraph (1) of this definition;

(3) Considered by the Secretary of the Interior to be an Indian for any purpose;

(4) An Eskimo, Aleut, or other Alaska Native; or

(5) A member of an organized Indian group that received a grant under the Indian Education Act of 1988 as it was in effect on October 19, 1994.

Indian organization means an organization that—

(1) Is legally established—

(i) By Tribal or inter-Tribal charter or in accordance with State or Tribal law; and

(ii) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education or TCU; and

(6) Is not an agency of State or local government.

Induction services means services provided—

(1)(i) By educators, local traditional leaders, or cultural experts;

(ii) For the two years of qualifying employment; and

(iii) In LEAs that serve a high proportion of Indian students;

(2) To support and improve participants' professional performance and promote their retention in the field of education and teaching, and that include, at a minimum, these activities:

(i) High-quality mentoring, coaching, and consultation services for the participant to improve performance.

(ii) Access to research materials and information on teaching and learning.

(iii) Assisting new teachers with use of technology in the classroom and use of data, particularly student achievement data, for classroom instruction.

(iv) Clear, timely, and useful feedback on performance, provided in coordination with the participant's supervisor.

(v) Periodic meetings or seminars for participants to enhance collaboration, feedback, and peer networking and support.

In-service training means activities and opportunities designed to enhance the skills and abilities of individuals in their current areas of employment.

Institution of higher education (IHE) has the meaning given that term in section 101(a) of the Higher Education Act of 1965 (20 U.S.C. 1001(a)).

Local educational agency (LEA) that serves a high proportion of Indian students means—

(1) An LEA, including a BIE-funded school, that serves a high proportion of Indian students in the LEA as compared to other LEAs in the State; or

(2) An LEA, including a BIE-funded school, that serves a high proportion of Indian students in the school in which the participant works compared to other LEAs in the State, even if the LEA as a whole in which the participant works does not have a high proportion of Indian students compared to other LEAs in the State.

Native American means “Indian” as defined in section 6151(3) of the Elementary and Secondary Education Act, as amended, which includes Alaska Native and members of federally-recognized or State-recognized Tribes; Native Hawaiian; and Native American Pacific Islander.

Native American language means the historical, traditional languages spoken by Native Americans.

Participant means an Indian individual who is being trained under the Professional Development program.

Payback means work-related service or cash reimbursement to the Department of Education for the training received under the Professional Development program.

Pre-service training means training to Indian individuals to prepare them to meet the requirements for licensing or certification in a professional field requiring at least a baccalaureate degree, or licensing or certification in the field of Native American language instruction.

Qualifying employment means employment in an LEA that serves a high proportion of Indian students.

Secretary means the Secretary of the Department of Education or an official or employee of the Department acting for the Secretary under a delegation of authority.

Stipend means that portion of an award that is used for room, board, and personal living expenses for full-time participants who are living at or near the institution providing the training.

Tribal college or university (TCU) has the meaning given that term in section 316(b) of the Higher Education Act of 1965 (20 U.S.C. 1059c(b)).

Tribal educational agency (TEA) means the agency, department, or instrumentality of an Indian Tribe that is primarily responsible for supporting Tribal students' elementary and secondary education.

Program Authority: 20 U.S.C. 7442.

Note: Projects must be awarded and operated in a manner consistent with the nondiscrimination requirements contained in the U.S. Constitution and the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 263.

Note: The regulations in 34 CFR part 79 apply to all applicants except federally recognized Indian Tribes.

Note: The regulations in 34 CFR part 86 apply to IHEs only.

II. Award Information

Type of Award: Discretionary grants.

Estimated Available Funds: $7,809,000.

Estimated Range of Awards: $300,000-$400,000.

Estimated Average Size of Awards: $350,000.

Maximum Award: We will not make an award exceeding $400,000 for the first, second, or third 12-month budget period. The last two 12-month budget periods will be limited to induction services only, at a cost not to exceed $120,000 per year. We will not make an award exceeding $120,000 for the fourth or fifth 12-month budget period.

Estimated Number of Awards: 22.

Note: The Department is not bound by any estimates in this notice.

Project Period: Up to 60 months. We will award grants for an initial period of not more than three years and may renew such grants for an additional period of not more than two years if we find that the grantee is achieving the objectives of the grant.

III. Eligibility Information

1. Eligible Applicants:

(a) An eligible applicant must be either—

(1) An IHE or a TCU;

(2) A State educational agency in consortium with an IHE or a TCU;

(3) An LEA in consortium with an IHE or a TCU;

(4) An Indian Tribe or Indian organization in consortium with an IHE or a TCU; or

(5) A BIE-funded school in consortium with at least one IHE or TCU that meets the requirements in paragraph (b).

(b) Eligibility of an applicant that is an IHE or a TCU, or an applicant requiring a consortium with an IHE or a TCU, requires that the IHE or TCU be accredited to provide the coursework and level of degree or Native American language certificate required by the project.

2. a. Cost Sharing or Matching: This program does not require cost sharing or matching.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html. Note, however, that this training rate limitation does not apply to agencies of Indian Tribal governments.

c. Administrative Cost Limitation: This program does not include any program-specific limitation on administrative expenses. All administrative expenses must be reasonable and necessary and conform to Cost Principles described in 2 CFR part 200 subpart E of the Uniform Guidance.

3. Other: Projects funded under this competition should budget for a two-day Project Directors' meeting in Washington, DC during each year of the project period. This meeting may be held virtually if conditions warrant such format.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Indian Education Professional Development Grants program, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: The allowable costs below are from 34 CFR 263.4.

A Professional Development program may include, as training costs, assistance to—

(1) Fully finance a student's educational expenses including tuition, books, and required fees; health insurance required by the IHE; stipend; dependent allowance; technology costs; program required travel; and instructional supplies; or

(2) Supplement other financial aid, including Federal funding other than loans, for meeting a student's educational expenses.

The maximum stipend amount is $1,800 per month for full-time students; grantees may also provide participants with a $300 allowance per month per dependent during an academic term. The Department will reduce any stipends in excess of this amount. Stipends may be paid only to full-time students.

Other costs that a Professional Development program may include, but that must not be included as training costs, include costs for—

(1) Collaborating with prospective employers within the grantees' local service area to create a pool of potentially available qualifying employment opportunities;

(2) In-service training activities such as providing mentorships linking experienced teachers at job placement sites with program participants;

(3) Assisting participants in identifying and securing qualifying employment opportunities in their fields of study following completion of the program;

(4) Teacher mentoring programs, professional guidance, and instructional support provided by educators, local traditional leaders, or cultural experts, as appropriate for teachers for up to their first three years of employment as teachers; and

(5) Programs designed to train traditional leaders and cultural experts to assist participants with relevant Native language and cultural mentoring, guidance, and support.

We reference additional regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative.

An application will not be disqualified if it exceeds the recommended page limit.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for “Need for project” and “Quality of the management plan” are from 34 CFR 75.210. The remaining selection criteria are from 34 CFR 263.7. The maximum score for all of these criteria is 100 points. The maximum score for each criterion is indicated in parentheses.

(a) Need for project (Maximum 5 points).

In determining the need for the proposed project, the Secretary considers the extent to which the proposed project will prepare personnel in specific fields in which shortages have been demonstrated through a job market analysis. (34 CFR 263.7(a)(1))

(b) Significance (Maximum 6 points). In determining the significance of the proposed project, the Secretary considers:

(1) (Up to 3 points) The potential of the proposed project to develop effective strategies for teaching Indian students and improving Indian student achievement, as demonstrated by a plan to share findings gained from the proposed project with parties who could benefit from such findings, such as other IHEs who are training teachers and administrators who will be serving Indian students.

(2) (Up to 3 points) The likelihood that the proposed project will build local capacity to provide, improve, or expand services that address the specific needs of Indian students. (34 CFR 263.7)

(c) Quality of the project design (Maximum 26 points). The Secretary considers the following factors in determining the quality of the design of the proposed project:

(1) (Up to 10 points) The extent to which the goals, objectives, and outcomes to be achieved by the proposed project are ambitious but also attainable and address—

(i) The number of participants expected to be recruited in the project each year;

(ii) The number of participants expected to continue in the project each year;

(iii) The number of participants expected to graduate; and

(iv) The number of participants expected to find qualifying employment within twelve months of completion.

(2) (Up to 10 points) The extent to which the proposed project has a plan for recruiting and selecting participants, including students who may not be of traditional college age, that ensures that program participants are likely to complete the program.

(3) (Up to 6 points) The extent to which the proposed project will incorporate the needs of potential employers, as identified by a job market analysis, by establishing partnerships and relationships with LEAs that serve a high proportion of Indian students and developing programs that meet their employment needs. (34 CFR 263.7)

(d) Quality of project services (Maximum 32 points). The Secretary considers the following factors in determining the quality of project services:

(1) (Up to 4 points) The likelihood that the proposed project will provide participants with learning experiences that develop needed skills for successful teaching and/or administration in LEAs that serve a high proportion of Indian students.

(2) (Up to 7 points) The extent to which the proposed project prepares participants to adapt teaching and/or administrative practices to meet the breadth of Indian student needs.

(3) (Up to 7 points) The extent to which the applicant will provide job placement activities that reflect the findings of a job market analysis and needs of potential employers and that offer qualifying employment opportunities.

(4) (Up to 7 points) The extent to which the applicant will offer induction services that reflect the latest research on effective delivery of such services.

(5) (Up to 7 points) The extent to which the applicant will assist participants in meeting the service obligation requirements. (34 CFR 263.7)

(e) Quality of project personnel. (Maximum 13 points). The Secretary considers the following factors when determining the quality of the personnel who will carry out the proposed project:

(1) (Up to 5 points) The qualifications, including relevant training, experience, and cultural competence, of the project director and the amount of time this individual will spend directly involved in the project.

(2) (Up to 8 points) The qualifications, including relevant training, experience, and cultural competence, of key project personnel and the amount of time to be spent on the project and direct interactions with participants. (34 CFR 263.7)

(f) Quality of the management plan. (Maximum 18 points). The Secretary considers the quality of the management plan for the proposed project. In determining the quality of the management plan for the proposed project, the Secretary considers:

(1) (Up to 8 points) The extent to which the costs are reasonable in relation to the number of persons to be served and to the anticipated results and benefits.

(2) (Up to 4 points) The adequacy of procedures for ensuring feedback and continuous improvement in the operation of the proposed project.

(3) (Up to 6 points) The extent to which the time commitments of the project director and principal investigator and other key project personnel are appropriate and adequate to meet the objectives of the proposed project. (34 CFR 75.210)

2. Review and Selection Process:

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

The Department will screen applications that are submitted in accordance with the requirements in this notice, and determine which applications are eligible to be read based on whether they have met the eligibility and application requirements established by this notice. The Department will use reviewers with knowledge and expertise on issues related to educator training and improving outcomes for Native American youth to score the selection criteria. The Department will thoroughly screen all reviewers for conflicts of interest to ensure a fair and competitive review.

Peer reviewers will read, prepare a written evaluation of, and score the assigned applications, based on the six selection criteria listed in the Selection Criteria section of this notice.

In reviewing applications, the Department will assign points for Competitive Preference Priorities 1 and 2 based on each application's adherence to the requirements of each.

Technical scoring. Reviewers will read, prepare a written evaluation, and assign a technical score to the applications assigned to their panel, using the selection criteria provided in this notice and the respective advisory scoring rubric in Appendix A. The Department will then prepare rank order(s) of applications based on their technical scores.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General. In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of the Government Performance and Results Act of 1993 (GPRA) and Department reporting under 34 CFR 75.110, the Department has established the following performance measures: (1) The percentage of participants in administrator preparation projects who become principals, vice principals, or other school administrators in “LEAs that serve a high proportion of Indian students”; (2) the percentage of participants in teacher preparation projects who become teachers in “LEAs that serve a high proportion of Indian students”; (3) the percentage of program participants who meet State licensure requirements; (4) the percentage of program participants who complete their service requirement on schedule; (5) the cost per individual who successfully completes an administrator preparation program, takes a position in an “LEA that serves a high proportion of Indian students,” and completes the service requirement in such a district; and (6) the cost per individual who successfully completes a teacher preparation program, takes a position in an “LEA that serves a high proportion of Indian students,” and completes the service requirement in such a district.

These measures constitute the Department's indicators of success for this program. Consequently, we advise an applicant for a grant under this program to carefully consider these measures in conceptualizing the approach to, and evaluation for, its proposed project. Each grantee will be required to provide, in its annual performance and final reports, data about its progress in meeting these measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Washington,
Deputy Assistant Secretary, Office of Elementary and Secondary Education.

Appendix A—Selection Criteria Scoring Rubric

Reviewers will assign points to an application for each selection sub-criterion.

To help promote consistency across and within the panels that will review PD applications, the Department has created an advisory, non-binding scoring rubric for reviewers to aid them in scoring the selection criteria. The scoring rubric below shows the maximum number of points that may be assigned to each criterion and sub-criterion.

Selection criteria | Sub-criterion points | Criterion points
(a) Need for project (34 CFR 263.7(a)(1)). In determining the need for the proposed project, the Secretary considers the extent to which the proposed project will prepare personnel in specific fields in which shortages have been demonstrated through a job market analysis |  | 5
(b) Significance (34 CFR 263.7). In determining the significance of the proposed project, the Secretary considers: |  | 6
(1) The potential of the proposed project to develop effective strategies for teaching Indian students and improving Indian student achievement, as demonstrated by a plan to share findings gained from the proposed project with parties who could benefit from such findings, such as other IHEs who are training teachers and administrators who will be serving Indian students | 3
(2) The likelihood that the proposed project will build local capacity to provide, improve, or expand services that address the specific needs of Indian students | 3
(c) Quality of the project design (34 CFR 263.7). The Secretary considers the following factors in determining the quality of the design of the proposed project: |  | 26
(1) (Up to 10 points) The extent to which the goals, objectives, and outcomes to be achieved by the proposed project are ambitious but also attainable and address—
(i) The number of participants expected to be recruited in the project each year;
(ii) The number of participants expected to continue in the project each year;
(iii) The number of participants expected to graduate; and
(iv) The number of participants expected to find qualifying employment within twelve months of completion. | 10
(2) The extent to which the proposed project has a plan for recruiting and selecting participants, including students who may not be of traditional college age, that ensures that program participants are likely to complete the program | 10
(3) The extent to which the proposed project will incorporate the needs of potential employers, as identified by a job market analysis, by establishing partnerships and relationships with LEAs that serve a high proportion of Indian students and developing programs that meet their employment needs | 6
(d) Quality of project services (34 CFR 263.7). The Secretary considers the following factors in determining the quality of project services: |  | 32
(1) The likelihood that the proposed project will provide participants with learning experiences that develop needed skills for successful teaching and/or administration in LEAs that serve a high proportion of Indian students | 4
(2) The extent to which the proposed project prepares participants to adapt teaching and/or administrative practices to meet the breadth of Indian student needs | 7
(3) The extent to which the applicant will provide job placement activities that reflect the findings of a job market analysis and needs of potential employers and that offer qualifying employment opportunities | 7
(4) The extent to which the applicant will offer induction services that reflect the latest research on effective delivery of such services | 7
(5) The extent to which the applicant will assist participants in meeting the service obligation requirements | 7
(e) Quality of project personnel (34 CFR 263.7). The Secretary considers the following factors when determining the quality of the personnel who will carry out the proposed project: |  | 13
(1) The qualifications, including relevant training, experience, and cultural competence, of the project director and the amount of time this individual will spend directly involved in the project | 5
(2) (Up to 8 points) The qualifications, including relevant training, experience, and cultural competence, of key project personnel and the amount of time to be spent on the project and direct interactions with participants | 8
(f) Quality of the management plan. (34 CFR 75.210). The Secretary considers the quality of the management plan for the proposed project. In determining the quality of the management plan for the proposed project, the Secretary considers: |  | 18
(1) The extent to which the costs are reasonable in relation to the number of persons to be served and to the anticipated results and benefits | 8
(2) The adequacy of procedures for ensuring feedback and continuous improvement in the operation of the proposed project | 4
(3) The extent to which the time commitments of the project director and principal investigator and other key project personnel are appropriate and adequate to meet the objectives of the proposed project | 6

While case-by-case determinations will be made, the reviewers will be asked to consider the general ranges below as a guide when awarding points.

Maximum point value | Quality of response: Low | Quality of response: Medium | Quality of response: High
3 | 0 | 1-2 | 3
4 | 0-1 | 2-3 | 4
5 | 0-1 | 2-3 | 4-5
6 | 0-2 | 3-4 | 5-6
7 | 0-2 | 3-5 | 6-7
8 | 0-2 | 3-5 | 6-8
10 | 0-3 | 4-7 | 8-10

[FR Doc. 2021-04492 Filed 3-3-21; 8:45 am]

BILLING CODE 4000-01-P